ENVIRONMENTAL PROTECTION AGENCY

40 CFR Parts 52 and 70

[EPA-R07-OAR-2022-0959; FRL-10493-01-R7]

Air Plan Approval; IA; Electronic Submittal of Air Quality Information

AGENCY: Environmental Protection Agency (EPA).

ACTION: Proposed rule.

SUMMARY: The Environmental Protection Agency (EPA) is proposing to approve revisions to the Iowa State Implementation Plan (SIP) and the Operating Permit Program for the State of Iowa. The revisions require the electronic submittal of air emissions reporting, construction permit applications, and Title V permit applications, and make administrative updates. These revisions do not impact the stringency of the SIP or have an adverse effect on air quality. The EPA's proposed approval of this rule revision is being done in accordance with the requirements of the Clean Air Act (CAA).

DATES: Comments must be received on or before February 23, 2023.

ADDRESSES: You may send comments, identified by Docket ID No. EPA-R07-OAR-2022-0959 to www.regulations.gov. Follow the online instructions for submitting comments.

Instructions: All submissions received must include the Docket ID No. for this rulemaking. Comments received will be posted without change to www.regulations.gov, including any personal information provided. For detailed instructions on sending comments and additional information on the rulemaking process, see the “Written Comments” heading of the SUPPLEMENTARY INFORMATION section of this document.

FOR FURTHER INFORMATION CONTACT: Bethany Olson, Environmental Protection Agency, Region 7 Office, Air Quality Planning Branch, 11201 Renner Boulevard, Lenexa, Kansas 66219; telephone number: (913) 551-7905; email address: olson.bethany@epa.gov.

SUPPLEMENTARY INFORMATION: Throughout this document “we,” “us,” and “our” refer to the EPA.

Table of Contents

I. Written Comments

II. What is being addressed in this document?

III. What SIP revisions are being proposed by EPA?

IV. What operating permit plan revisions are being proposed by EPA?

V. Have the requirements for approval of a SIP and the operating permit plan revisions been met?

VI. What action is the EPA taking?

VII. Incorporation by Reference

VIII. Statutory and Executive Order Reviews

I. Written Comments

Submit your comments, identified by Docket ID No. EPA-R07-OAR-2022-0959, at www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit www.epa.gov/dockets/commenting-epa-dockets.

II. What is being addressed in this document?

The EPA is proposing to approve revisions to the Iowa SIP and the Operating Permits Program received on June 3, 2022. The revisions incorporate recent changes to Iowa Administrative Code. The following chapters are impacted:

• Chapter 20, “Scope of Title—Definitions;”

• Chapter 21, “Compliance;” and

• Chapter 22, “Controlling Pollution.”

The revisions require the electronic submittal of air emissions reporting, construction permit applications, and Title V permit applications, and make administrative updates. EPA proposes to find that these revisions meet the requirements of the Clean Air Act, do not impact the stringency of the SIP, and do not adversely impact air quality. The full text of these changes can be found in the State's submission, which is included in the docket for this action.

III. What SIP revisions are being proposed by EPA?

The EPA is proposing the following revisions to the Iowa SIP:

Chapter 20, Subrule 20.2, Scope of Title-Definitions: The state revised the definition of “Electronic format” for clarity. The updates are administrative in nature; thus, EPA proposes to approve this change.

Chapter 21, Subrule 21.1(3), Emissions inventory: The state revisions require emissions information to be submitted in electronic format after January 1, 2023, if electronic submittal is provided. EPA finds this change meets the requirements of CAA section 110 and does not negatively impact the stringency of the SIP.

Chapter 22, Subrule 22.1(3) Construction permits: The state revisions require construction permit applications to be submitted in electronic format after January 1, 2023, if electronic submittal is provided. EPA finds this change meets the requirements of CAA section 110 and does not negatively impact the stringency of the SIP.

IV. What operating permit plan revisions are being proposed by EPA?

The EPA is proposing to approve the following revision to the Operating Permit Program:

Chapter 22, subrule 22.105(455B), Title V permit applications: The state revised subrule 22.105(1), “Duty to apply,” to require Title V operating permit applications to be submitted in electronic format after January 1, 2023, if electronic submittal is provided. The subrule was also revised to correct an outdated address.

The state revised subrule 22.105(2), “Standard application form and required information,” to require the standard Title V permit application form to be submitted in electronic format after January 1, 2023, if electronic submittal is provided.

Chapter 22, subrule 22.128(455B), Acid rain applications-requirement to apply: The state revised subrule 22.128(4), “Submission of copies,” to require acid rain permit applications to be submitted in electronic format after January 1, 2023, if electronic submittal is provided.

EPA finds these changes meet the requirements of 40 CFR part 70 and do not negatively impact the stringency of the Operating Permit Program.

V. Have the requirements for approval of a SIP and the operating permit plan revisions been met?

The State submission has met the public notice requirements for SIP submissions in accordance with 40 CFR 51.102. The submission also satisfied the completeness criteria of 40 CFR part 51, appendix V. The State provided public notice on this SIP revision from January 12, 2022, to February 14, 2022, and held a public hearing on February 14, 2022. Iowa received one comment in support of the rule during the comment period. Iowa did not revise the rule based on public comment prior to submitting to EPA, as noted in the State submission included in the docket for this action.

In addition, as explained above, the revision meets the substantive SIP requirements of the CAA, including section 110 and implementing regulations.

VI. What action is the EPA taking?

We are processing this as a proposed action because we are soliciting comments on this proposed action. Final rulemaking will occur after consideration of any comments.

VII. Incorporation by Reference

In this document, the EPA is proposing to include regulatory text in an EPA final rule that includes incorporation by reference. In accordance with requirements of 1 CFR 51.5, the EPA is finalizing the incorporation by reference of the Iowa rules 567-20.2, 567-21.1, 567-22.1, 567-22.105(1), 567-22.105(2) and 567-22.128(4) discussed in sections II-IV of this preamble and as set forth below in the proposed amendments to 40 CFR part 52. The EPA has made, and will continue to make, these materials generally available through www.regulations.gov and at the EPA Region 7 Office (please contact the person identified in the FOR FURTHER INFORMATION CONTACT section of this preamble for more information).

VIII. Statutory and Executive Order Reviews

Under the Clean Air Act (CAA), the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

• The SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Environmental protection, Administrative practice and procedure, Air pollution control, Intergovernmental relations, Operating permits, Reporting and recordkeeping requirements.

Dated: January 12, 2023.
Meghan A. McCollister,
Regional Administrator, Region 7.

For the reasons stated in the preamble, the EPA proposes to amend 40 CFR parts 52 and 70 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entries “567-20.2”, “567-21.1” and “567-22.1” to read as follows:

§ 52.820 Identification of plan.

* * * * *

(c) * * *

EPA-Approved Iowa Regulations
Iowa citation | Title | State effective date | EPA approval date | Explanation
Iowa Department of Natural Resources Environmental Protection Commission [567]
Chapter 20—Scope of Title-Definitions
| * * * * * * *
567-20.2 | Definitions | 5/11/22 | [Date of publication of the final rule in the Federal Register], [Federal Register citation of the final rule] | The definitions for “anaerobic lagoon,” “odor,” “odorous substance,” “odorous substance source” are not SIP approved.
* * * * * * *
Chapter 21—Compliance
567-21.1 | Compliance Schedule | 5/11/22 | [Date of publication of the final rule in the Federal Register], [Federal Register citation of the final rule]. |
* * * * * * *
Chapter 22—Controlling Pollution
567-22.1 | Permits Required for New or Existing Stationary Sources | 5/11/22 | [Date of publication of the final rule in the Federal Register], [Federal Register citation of the final rule]. |
* * * * * * *

* * * * *

PART 70—STATE OPERATING PERMIT PROGRAMS

3. The authority citation for part 70 continues to read as follows:

Authority: 42 U.S.C. 7401, et seq.

4. Appendix A to part 70 is amended by adding paragraph (y) under “Iowa” to read as follows:

Appendix A to Part 70—Approval Status of State and Local Operating Permits Programs

* * * * *

Iowa

* * * * *

(y) The Iowa Department of Natural Resources submitted for program approval revisions to rules 567-22.105(1), 567-22.105(2) and 567-22.128(4) on June 3, 2022. The state effective date is May 11, 2022. The proposed revision effective date is [date 30 days after date of publication of the final rule in the Federal Register].

* * * * *

[FR Doc. 2023-00928 Filed 1-23-23; 8:45 am]

BILLING CODE 6560-50-P